DEPARTMENT OF LABOR

Employment and Training Administration

[NAFTA—5663]

Exide Technologies, Transportation Global Business Unit, Shreveport, LA; Notice of Revised Determination on Reconsideration

On August 12, 2002, the Department issued a Notice of Affirmative Determination Regarding Application for Reconsideration for NAFTA-TAA applicable to workers and former workers of the subject firm. The notice was published in the Federal Register on August 20, 2002 (67 FR 53975).

The initial NAFTA-TAA petition investigation for workers at Exide Technologies, Transportation Business Unit, Shreveport, Louisiana was denied based on the finding that the subject firm did not shift to Canada or Mexico its production of lead-acid batteries for cars and trucks nor did it import like or directly competitive products from Canada or Mexico during the relevant period. The investigation further revealed that customers of the subject firm did not increase their imports of lead-acid batteries from Canada and/or Mexico during the relevant period.

The petitioner supplied a list of additional customers they believed should be surveyed. On further review, the Department conducted a survey of these customers to determine if imports contributed importantly to the declines in employment at the subject plant.

On reconsideration, the Department conducted a survey of the additional major customers of the subject plant regarding their purchases of lead-acid batteries during the relevant period. The survey revealed that a major customer increased their imports of lead-acid batteries from Mexico, while decreasing their purchases from the subject plant during the relevant period.

Conclusion

After careful review of the additional facts obtained on reconsideration, I conclude that increased imports from Mexico of articles like or directly competitive with lead-acid batteries contributed importantly to the decline in sales or production and to the total or partial separation of workers of Exide Technologies, Transportation Business Unit, Shreveport, Louisiana. In accordance with the provisions of the Act, I make the following revised determination:

All workers of Exide Technologies, Transportation Business Unit, Shreveport, Louisiana who became totally or partially separated from employment on or after December 18, 2000, through two years from the date of this issuance, are eligible to apply for NAFTA-TAA under Section 250 of the Trade Act of 1974.

Signed in Washington, DC this 10th day of September 2002.
Edward A. Tomchick,
Director, Division of Trade Adjustment Assistance.

[FR Doc. 02-24117 Filed 9-20-02; 8:45 am]

BILLING CODE 4510-30-P